COMMODITY FUTURES TRADING COMMISSION

Energy and Environmental Markets Advisory Committee Meeting

Errata Notice

On September 1, 2009, the Commodity Futures Trading Commission's Energy and Environmental Markets Advisory Committee announced that it will conduct a meeting on Wednesday, September 16, 2009, from 8 a.m. until 11 a.m. in the Commission's New York Regional Office, 140 Broadway, 19th Floor, New York, NY 10005, and is open to the public.

That Notice is corrected as follows:

The public access call-in number for U.S. and Canada is (888) 691-4252.

Issued by the Commission in Washington, DC on September 1, 2009.
Sauntia S. Warfield,
Assistant Secretary of the Commission.

[FR Doc. E9-21516 Filed 9-4-09; 8:45 am]

BILLING CODE P